DEPARTMENT OF ENERGY

Federal Energy Regulatory Commission

[Project No. 459-212]

Union Electric Company, dba AmerenUE; Notice of Application and Soliciting Comments, Motions To Intervene, and Protests

April 15, 2008.

Take notice that the following application has been filed with the Commission and is available for public inspection:

a. Application Type: Shoreline Management Plan (SMP).

b. Project No.: 459-212.

c. Date Filed: March 28, 2008.

d. Applicant: Union Electric Company, dba AmerenUE.

e. Name of Project: Osage Hydroelectric Project.

f. Location: The project is located on the Osage River, in Benton, Camden, Miller, and Morgan Counties, Missouri. The project is located immediately downstream from the U.S. Army Corps of Engineers' (Corps) Harry S. Truman Dam and occupies 1.6 acres of inundated federal lands administered by the Bureau of Land Management.

g. Filed Pursuant to: Federal Power Act, 16 U.S.C. 791(a)-825(r).

h. Applicant Contact: Mark Jordan, AmerenUE General Supervisor, One Ameren Plaza, 1901 Chouteau Avenue, P.O. Box 66149, St. Louis, MO 63166-6149, (573) 681-7246

i. FERC Contact: Any questions on this notice should be addressed to Shana High at (202) 502-8674, or by e-mail: shana.high@ferc.gov.

j. Deadline for filing comments and/or motions: May 16, 2008.

All documents (original and eight copies) should be filed with: Kimberly D. Bose, Secretary, Federal Energy Regulatory Commission, DHAC, PJ-12.1, 888 First Street, NE., Washington, DC 20426. Please reference the project number (P-459-212) on any comments or motions filed. Comments and motions filed need to carefully specify the appropriate project number in order to avoid confusion with the SMPs concurrently filed by UPPCO for four other projects (see item k below). Comments, protests and interventions may be filed electronically via the Internet in lieu of paper. See, 18 CFR 385.2001(a)(1)(iii) and the instructions on the Commission's Web site under the “e-Filing” link. The Commission strongly encourages electronic filings.

k. Description of Proposal: Union Electric Company, dba AmerenUE, filed an SMP for the Osage Hydroelectric Project to provide for: (a) An updated permitting program, including measures to assure compliance with federal and state permitting requirements for activities on project lands, (b) commitments to identify and protect sensitive habitat, (c) a vegetative buffer policy, (d) enhanced enforcement, (e) vector (mosquito) control, (f) a certified dock builders program, (g) an Adopt-A-Shoreline cleanup program, (h) a derelict dock removal program, (i) a shoreline protection hotline, and (j) educational programs.

l. This filing is available for review at the Commission in the Public Reference Room or may be viewed on the Commission's Web site at http://www.ferc.gov using the “eLibrary” link. Enter the docket number excluding the last three digits in the docket number field to access the document. For assistance, contact FERC Online Support at FERCOnlineSupport@ferc.gov or call toll-free 1-866-208-3676, or for TTY, call (202) 502-8659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, or “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E8-8636 Filed 4-21-08; 8:45 am]

BILLING CODE 6717-01-P